FEDERAL MARITIME COMMISSION

[DOCKET NO. 24-14]

AirBoss Defense Group, LLC, Complainant v. FedEx Trade Networks Transport & Brokerage, Inc.; Mediterranean Shipping Company S.A. and Mediterranean Shipping Company (USA) Inc., as Agent for Mediterranean Shipping Company S.A.; and Total Terminals International, LLC, Respondents

Served: March 20, 2024.

Notice of Filing of Complaint and Assignment

Notice is given that a complaint has been filed with the Federal Maritime Commission (the “Commission”) by AirBoss Defense Group, LLC (the “Complainant”) against FedEx Trade Networks Transport & Brokerage, Inc.; Mediterranean Shipping Company S.A. and Mediterranean Shipping Company (USA) Inc., as agent for Mediterranean Shipping Company S.A.; and Total Terminals International, LLC (the “Respondents”). Complainant states that the Commission has subject matter jurisdiction under the Shipping Act of 1984, as amended, 46 U.S.C. 40101 et seq.

Complainant is a limited liability company existing under the laws of the State of Delaware and, at all material times, was a purchaser of goods in international commerce.

Complainant identifies Respondent FedEx Trade Networks Transport & Brokerage, Inc. as a New York corporation with a principal place of business in Memphis, Tennessee and as a non-vessel-operating common carrier.

Complainant identifies Respondent Mediterranean Shipping Company S.A. as a global container shipping company and ocean common carrier with its headquarters in Geneva, Switzerland that conducts business in the United States through Mediterranean Shipping Company (USA) Inc., whose office is in New York, New York.

Complainant identifies Respondent Total Terminals International, LLC as a corporation organized and existing under the laws of State of Delaware and was a marine terminal operator with a principal place of business in Long Beach, California.

Complainant alleges that Respondents violated 46 U.S.C. 41102(c); 41104(a)(14) and (15); 41104(d); 41104(f); and 46 CFR 545.4 and 545.5. Complainant alleges these violations arose from the continued assessment of demurrage, detention, chassis, and per diem charges (the “charges”), a failure to extend the free time, and other acts and omissions related to containers with goods that were subject to a United States Customs and Border Protection Withhold Release Order (the “containers”). Complainant also alleges that Respondent FedEx Trade Networks Transport & Brokerage, Inc. violated 46 U.S.C. 41104(a)(2) and (11) and 46 CFR 532.5. Complainant alleges these violations arose from the acceptance of cargo that did not have a tariff or bond, a demand for payment of charges without invoices, and other acts and omissions related to the containers.

An answer to the complaint must be filed with the Commission within 25 days after the date of service.

The full text of the complaint can be found in the Commission's electronic Reading Room at https://www2.fmc.gov/readingroom/proceeding/24-14/. This proceeding has been assigned to the Office of Administrative Law Judges. The initial decision of the presiding judge shall be issued by March 20, 2025, and the final decision of the Commission shall be issued by October 6, 2025.

David Eng,
Secretary.

[FR Doc. 2024-06219 Filed 3-22-24; 8:45 am]

BILLING CODE 6730-02-P